DEPARTMENT OF HOUSING AND URBAN DEVELOPMENT

[Docket No. FR-5609-N-13]

Notice of Proposed Information Collection: Comment Request Family Self-Sufficiency Program Demonstration

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: February 8, 2013.

ADDRESSES: Interested persons are invited to submit comments regarding this proposal. Comments should refer to the proposal by name and should be sent to: Reports Liaison Officer, Office of Policy Development and Research, Department of Housing and Urban Development, 451 Seventh Street SW., Room 8230, Washington, DC 20410.

FOR FURTHER INFORMATION CONTACT: Jennifer Stoloff, Department of Housing and Urban Development, Office of Policy Development and Research, 451 7th Street SW., Room 8120, Washington, DC 20410; telephone (202) 402-5723, (this is not a toll free number). Copies of the proposed data collection instruments and other available documents may be obtained from Dr. Stoloff.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Family Self-Sufficiency (FSS) Program Demonstration

Description of the need for information and proposed use: The Department is conducting this study under contract with MDRC and its subcontractors (Branch Associates and M. Davis and Company, Inc.). The project is an evaluation of the Family Self-Sufficiency Program operated at Public Housing Agencies (PHAs) across the U.S. The study will use random-assignment methods to evaluate the effectiveness of the program. FSS has operated since 1992 and serves voucher holders and residents of public housing. The FSS model is essentially case management plus an escrow account. FSS case managers create a plan with families to achieve goals and connect with services that will enhance their employment opportunities. Families accrue money in their escrow accounts as they increase their earnings. To date, HUD has funded two other studies of the FSS program, but neither can tell us how well families would have done in the absence of the program. A random assignment model is needed because participant self-selection into FSS limits the ability to know whether program features rather than the characteristics of the participating families caused tenant income gains. Random assignment will limit the extent to which selection bias is driving observed results. The demonstration will document the progress of a group of FSS participants from initial enrollment to program completion (or exit). The intent is to gain a deeper understanding of the program and illustrate strategies that assist participants to obtain greater economic independence. While the main objective of FSS is stable, suitable employment, there are many interim outcomes of interest, which include: Getting a first job; getting a higher paying job; self-employment/small business ownership; no longer needing benefits provided under one or more welfare programs; obtaining additional education, whether in the form of a high school diploma, higher education degree, or vocational training; buying a home; buying a car; setting up savings accounts; or accomplishing similar goals that lead to economic independence.

Data collection will include the families that are part of the treatment and control groups, as well as PHA staff. Data will be gathered through a variety of methods including surveys, informational interviews, direct observation, and analysis of administrative records.

Members of the affected public:

PHA Staff | Approximately 72 (i.e., assuming up to 4 staff at up to 18 PHAs).
Families receiving subsidized housing and enrolled in the FSS program (treatment group) | Up to 1,500.
Families receiving subsidized housing and not enrolled in the FSS program (control group) | Up to 1,500.

Estimation of the total number of hours needed to prepare the information collection including number of respondents, frequency of response, and hours of response:

Instrument | Number of respondents | Number responses per respondent | Average burden/response (in hours) | Total burden hours
Informed Consent Form (ICF)¹ | 3,000 | 1 | Up to 15 minutes (or .25 hours) | 750 hours.
Baseline Information Form (includes completion of the Contact Sheet) | 3,000 | 1 | 30 minutes, on average (or .50 hours). Approximately 45 minutes (or .75 hours) for larger households | 2,250 hours.
Tracking survey sample | 3,000 | 1 | Maximum of 1 hour over the tracking period, mainly to update contact information | 3,000 hours.
Implementation research (round 1 projected to occur in Year 3) Meetings could include: FSS coordinator; FSS case management staff; lead manager to whom the FSS coordinator reports; representatives of 4 key partner agencies; FSS participants | 20 per PHA (or 20 * 18 sites) | 1 | Field research visits will last two days. Meetings to run 30 to 60 minutes, depending on the group of participants | 252 hours or 14 hours (or 2 days) per site visit * 18 sites.
Cost-Benefit analysis data collection meetings with: FSS MIS/data analyst; FSS coordinator; FSS case management staff; lead manager to whom the FSS coordinator reports | 6 per PHA (or 6 * 18 sites) | 1 | Site visits will last 1 day. Meetings to run 30 to 60 minutes, depending on the group of participants | 126 hours or 7 hours (or 1 day) per site visit * 18 sites.
¹ We assume that the Informed Consent Form (ICF) will include language to enable us to collect administrative records from the designated state agency where the PHA is located. Therefore, the time to obtain this consent is included in the estimate to complete the ICF. Upon selection of sites, MDRC will contact the corresponding state agencies to initiate legal agreements to obtain these records, including the approved language to incorporate into the ICF.

Total 6,378 hours.

Status of the proposed information collection: Pending OMB approval.

Authority: Title 13 U.S.C. Section 9(a), and Title 12, U.S.C., Section 1701z-1 et seq.

Dated: December 3, 2012.
Erika C. Poethig,
Acting Assistant Secretary for Policy Development and Research.

[FR Doc. 2012-29791 Filed 12-7-12; 8:45 am]

BILLING CODE 4210-67-P